DEPARTMENT OF COMMERCE

National Oceanic and Atmospheric Administration

RIN 0648-XF124

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Wednesday, January 25, beginning at 9 a.m. and conclude by 4 p.m.. For agenda details, see SUPPLEMENTARY INFORMATION.

ADDRESSES: The meeting will at the Royal Sonesta Harbor Court, 550 Light Street, Baltimore, MD 21202; telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting is to receive a report of the results of a stock assessment recently completed for black sea bass and to make ABC recommendations to the Council for the species for the period 2017-19. In addition, the Council may request re-specification of the ABC recommendations for the previous years which were made based on ad hoc data poor methods, to evaluate fishery performance relative to catch limits developed using those methods. If time permits, the report of the CV Subcommittee of the SSC will be discussed.

Dated: December 28, 2016.
Jeffrey N. Lonergan,
Acting Deputy Director, Office of Sustainable Fisheries, National Marine Fisheries Service.

[FR Doc. 2016-31806 Filed 12-30-16; 8:45 am]

BILLING CODE 3510-22-P